DEPARTMENT OF THE TREASURY

Internal Revenue Service

Request for Applications for the IRS Advisory Committee on Tax Exempt and Government Entities

AGENCY: Internal Revenue Service (IRS), Tax Exempt and Government Entities Division, Treasury.

ACTION: Notice and request for applicants or nominations.

SUMMARY: The Internal Revenue Service (IRS) is requesting applications for membership to serve on the Advisory Committee on Tax Exempt and Government Entities (ACT). Applications will be accepted for the following vacancies that will occur in June 2018: Two (2) Employee Plans (with additional experience in federal, state and local governments preferred); one (1) Exempt Organizations (with additional experience in tax-exempt bonds preferred); and one (1) Tax Exempt Bonds (with additional experience in exempt organizations preferred). To ensure an appropriate balance of membership, final selection from qualified candidates will be determined based on experience, qualifications and other expertise.

DATES: Written applications or nominations must be received on or before September 18, 2017.

ADDRESSES: Submit all applications and nominations to tege.advisory.comm@irs.gov or Fax at 888-269-7419.

Application: Applicants must use the ACT Application Form (Form 12399-C) on the IRS Web site (IRS.gov). Applications should describe and document the proposed member's qualifications for membership on the ACT. Applications should also specify the vacancy for which they wish to be considered. Incomplete applications will not be processed.

FOR FURTHER INFORMATION CONTACT: Mark O'Donnell, 202-317-8632, Mark.F.ODonnell@irs.gov.

SUPPLEMENTARY INFORMATION: The Advisory Committee on Tax Exempt and Government Entities (ACT), governed by the Federal Advisory Committee Act, Public Law 92-463, is an organized public forum for discussion of relevant employee plans, exempt organizations, tax-exempt bonds, and federal, state, local and Indian tribal government issues between officials of the IRS and representatives of the above communities. The ACT enables the IRS to receive regular input with respect to the development and implementation of IRS policy concerning these communities. ACT members present the interested public's observations about current or proposed IRS policies, programs and procedures, as well as suggest improvements. The Secretary of the Treasury will appoint ACT members, who will serve three-year terms. ACT members will not be paid for their time or services. ACT members will be reimbursed for their travel-related expenses to attend working sessions and public meetings, in accordance with 5 U.S.C. 5703.

The Secretary of the Treasury invites those individuals, organizations and groups affiliated with employee plans, exempt organizations, tax-exempt bonds, and federal, state, local and Indian tribal governments to nominate individuals for membership on the ACT. Nominations should describe and document the proposed member's qualifications for ACT membership, including the nominee's past or current affiliations and dealings with the particular community or segment of the community that he or she would represent (such as, employee plans). Nominations should also specify the vacancy for which they wish to be considered. The Department of the Treasury seeks a diverse group of members representing a broad spectrum of persons experienced in employee plans, exempt organizations, tax-exempt bonds, and federal, state, local and Indian tribal governments. Nominees must go through a clearance process before selection by the Department of the Treasury. In accordance with Department of the Treasury Directive 21-03, the clearance process includes, among other things, pre-appointment and annual tax checks, and an FBI criminal and subversive name check, fingerprint check and security clearance.

Mark F. O'Donnell,
Designated Federal Officer, Tax Exempt and Government Entities Division, Internal Revenue Service.

[FR Doc. 2017-17365 Filed 8-16-17; 8:45 am]

BILLING CODE 4830-01-P